DEPARTMENT OF VETERANS AFFAIRS

[OMB Control No. 2900-0710]

Agency Information Collection (VSO Access to VHA Electronic Health Records)

AGENCY: Veterans Health Administration, Department of Veterans Affairs.

ACTION: Under OMB review.

SUMMARY: In compliance with the Paperwork Reduction Act (PRA) of 1995 (44 U.S.C. 3501-3521), this notice announces that the Veterans Health Administration (VHA), Department of Veterans Affairs, will submit the collection of information abstracted below to the Office of Management and Budget (OMB) for review and comment. The PRA submission describes the nature of the information collection and its expected cost and burden and includes the actual data collection instrument.

DATES: Written comments and recommendations on the proposed collection of information should be received on or before October 6, 2014.

ADDRESSES: Submit written comments on the collection of information through www.Regulations.gov, or to Office of Information and Regulatory Affairs, Office of Management and Budget, Attn: VA Desk Officer; 725 17th St. NW., Washington, DC 20503 or send through electronic mail to oira_submission@omb.eop.gov. Please refer to “OMB Control No. 2900-0710” in any correspondence. During the comment period, comments may be viewed online through the FDMS.

FOR FURTHER INFORMATION CONTACT: Crystal Rennie, Enterprise Records Service (005R1B), Department of Veterans Affairs, 810 Vermont Avenue NW., Washington, DC 20420, (202) 632-7492 or email crystal.rennie@va.gov. Please refer to “OMB Control No. 2900-0710” in any correspondence.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Titles: VSO Access to VHA Electronic Health Records.

OMB Control Number: 2900-0710.

Type of Review: Revision of a currently approved collection.

Abstract: The information is being used to establish VA Veterans Health Information Systems Technology Architecture (VistA) computer accounts for Veteran Service Officers (VSO's) who have been granted Power of Attorney by veterans who have medical information recorded in VA electronic health records. This information is collected under the authority of Title 38, CFR Parts 51 and 52, Veterans Benefits.

The information will be used by VHA Office of Health Information Governance and/or contractors to create accounts in the VistA computer system for VSO's. The information collected is used for a national roll-out of a project targeted at providing more efficient benefits processing services to veterans. The VistA system requires a minimal set of data to create an account, which has been reflected on the form. After the initial roll-out, the burden to the government will be minimal, only involving VSO staff turnover.

Affected Public: Individuals or households.

Estimated Total Annual Burden: 17 hours.

Estimated Average Burden per Respondent: 2 minutes.

Frequency of Response: Yearly.

Estimated Number of Respondents: 500.

Dated: September 2, 2014.
By direction of the Secretary.
Crystal Rennie,
VA Clearance Officer, U.S. Department of Veterans Affairs.

[FR Doc. 2014-21153 Filed 9-4-14; 8:45 am]

BILLING CODE 8320-01-P